POSTAL SERVICE

Plan for Secure Postage Meter Technology

AGENCY: Postal Service.

ACTION: Notice of proposed plan with request for comments.

SUMMARY: The Postal Service recently completed the first phase of a plan to remove insecure postage meters from the marketplace with the decertification of mechanical postage meters. The proposed plan for the second phase, the retirement of manually reset electronic meters, was published for comment May 1, 2000. While these comments are under review, the Postal Service is publishing notice of additional phases of the proposed plan for secure postage meter technology. Upon completion of the phases of this plan all meters in service will offer enhanced levels of security, thereby greatly reducing the Postal Service's exposure to meter fraud, misuse, and loss of revenue.

DATES: Comments must be received October 5, 2000.

ADDRESSES: Written comments should be sent to the Manager, Postage Technology Management, U.S. Postal Service, Room 8430, 475 L'Enfant Plaza SW, Washington DC 20260-2444. Copies of all written comments will be available at the above address for inspection and photocopying between 9 a.m. and 4 p.m. Monday through Friday at the above address.

FOR FURTHER INFORMATION CONTACT: Nicholas S. Stankosky, (202) 268-5311.

SUPPLEMENTARY INFORMATION: In 1996 the Postal Service, in cooperation with all authorized postage meter manufacturers, began a phaseout, or decertification, of all mechanical postage meters because of identified cases of indiscernible tampering and misuse. Postal revenues were proven to be at serious risk. The completion of this effort, which resulted in the withdrawal of 776,000 mechanical meters from service, completed Phase I of the Proposed Plan for Secure Technology. Phase II of the Proposed Plan, the retirement of electronic meters that are manually set by postal employees, was described in the Federal Register on May 1, 2000. Additional phases of the Proposed Plan are described in the current notice.

It is the Postal Service's intent to make this an orderly process that minimizes impacts on meter users. Notification of additional phases of the proposed plan is published at this time to give both postage meter manufacturers and postage meter users ample time to make timely and intelligent decisions on the selection of postage meters and associated mailing equipment. Given the rapid pace of new technological developments for secure postage meter technology, meter manufacturers should not offer, and customers should not accept, leases for postage meter equipment of more than five (5) years' duration.

Phases III and IV of the Postal Service proposed plan for secure postage meter technology affect non-digital, or letterpress, meters that are remote set under the Computerized Meter Resetting System (CMRS). If such a meter has a timeout feature, which automatically disables the meter if it is not reset within a specified time period, it is called an enhanced meter. Phase III of the proposed plan is to end the placement of non-enhanced CMRS letterpress meters by June 2001. Phase IV of the proposed plan is to end the placement of enhanced CMRS letterpress meters by December 2003.

A final plan will be published after all comments have been received and reviewed by the Postal Service.

Stanley F. Mires,
Chief Counsel, Legislative.

[FR Doc. 00-21160 Filed 8-18-00; 8:45 am]

BILLING CODE 7710-12-U